DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Recreational Bait and Tackle Store Economic Survey.

OMB Control Number: 0648-xxxx.

Form Number(s): NA.

Type of Request: Regular submission (request for a new information collection).

Number of Respondents: 2,910 (annualized to 970).

Average Hours per Response: Large chain store survey, 3 hours; small chain and independent survey, 30 minutes.

Burden Hours: 1,313 (annualized to 438).

Needs and Uses: This request is for a new information collection.

The objective of the survey is to collect information on the operational structure of bait and tackle stores that cater to marine recreational anglers. The survey will ask store owners to characterize and quantify their operational costs and sales revenues in addition to describing their clientele. As specified in the Magnuson-Stevenson Fishery Conservation and Management Act of 1996 (and reauthorized in 2007), National Marine Fisheries Service (NMFS) is required to enumerate the economic impacts of the policies it implements on fishing participants and coastal communities. The cost and earnings data collected in this survey will be used to estimate the economic contributions and impacts of bait and tackle stores regionally and nationwide.

Affected Public: Business or other for-profit organizations.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb.eop.gov or faxed to (202) 395-5806.

Dated: March 25, 2014.
Gwellnar Banks,
Management Analyst, Office of the Chief Information Officer.

[FR Doc. 2014-07034 Filed 3-28-14; 8:45 am]

BILLING CODE 3510-JE-P